DEPARTMENT OF TRANSPORTATION

Federal Transit Administration

Limitation on Claims Against Proposed Public Transportation Projects—Coolidge Terminal Replacement Project, and VIA Advanced Rapid Transit North/South Corridor Project

AGENCY: Federal Transit Administration (FTA), Department of Transportation (DOT).

ACTION: Notice.

SUMMARY: This notice announces final environmental actions taken by the Federal Transit Administration (FTA) regarding the two projects: Coolidge Terminal Replacement Project, City of Detroit, Wayne County, Michigan; and VIA Advanced Rapid Transit North/South Corridor Project, San Antonio, Bexar County, Texas. The purpose of this notice is to publicly announce FTA's environmental decisions on the subject projects and to activate the limitation on any claims that may challenge these final environmental actions.

DATES: A claim seeking judicial review of FTA actions announced herein for the listed public transportation projects will be barred unless the claim is filed on or before November 3, 2023.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), section 4(f) requirements (49 U.S.C. 303), section 106 of the National Historic Preservation Act (54 U.S.C. 306108), Endangered Species Act (16 U.S.C. 1531), Clean Water Act (33 U.S.C. 1251), Uniform Relocation and Real Property Acquisition Policies Act (42 U.S.C. 4601), and the Clean Air Act (42 U.S.C. 7401-7671q). This notice does not, however, alter or extend the limitation period for challenges of project decisions subject to previous notices published in the Federal Register. The projects and actions that are the subject of this notice follow:

1. Project name and location: Coolidge Terminal Replacement Project, City of Detroit, Wayne County, Michigan. Project Sponsor: Detroit Department of Transportation (DDOT), Detroit, Michigan. Project description: The Project involves a replacement of the existing Coolidge Terminal with an entirely new facility. The Project consists of three buildings with interdependent programs: Bus Storage, Fleet Maintenance, and Operations. The Project will accommodate 24-hour operations and initially accommodate 144 buses, with the capacity to expand to up to 216 buses in the future. The Project also involves construction of parking spaces for staff and visitors meeting American with Disabilities Act (ADA) standards and associated infrastructure improvements.

Final agency actions: Section 4(f) use determination, dated March 16, 2023; executed Section 106 Memorandum of Agreement, dated April 26, 2023; and Coolidge Terminal Replacement Project Finding of No Significant Impact (FONSI), dated May 12, 2023. Supporting documentation: The Coolidge Terminal Replacement Project Environmental Assessment (EA), dated January 27, 2023. The FONSI, EA and associated documents can be viewed and downloaded from: https://detroitmi.gov/departments/detroit-department-transportation/coolidge-terminal-replacement-project

2. Project name and location: VIA Advanced Rapid Transit North/South Corridor Project, San Antonio, Bexar County, Texas. Project Sponsor: VIA Metropolitan Transit, San Antonio, Texas. Project description: The Project includes construction of an advanced rapid transit bus route from San Antonio International Airport in the north, through Downtown San Antonio, to Steves Avenue in the south. The Project is approximately 12 miles long and includes approximately 26 new stations that will be uniquely branded for the service. Service is anticipated to operate in a combination of dedicated center-running transit lanes, curbside business access transit lanes, and in mixed traffic.

Final agency actions: Section 4(f) de minimis impact determination, dated May 4, 2023; Section 106 No Adverse Effect determination, dated April 3, 2023; and Determination of the applicability of a categorical exclusion pursuant to 23 CFR 771.118(d), dated May 4, 2023. Supporting documentation: Documented Categorical Exclusion (CE) and supporting materials, dated April 27, 2023. The CE and associated documents can be viewed and downloaded from: https://keepsamoving.com/advanced-rapid-transit/.

Authority: 23 U.S.C. 139(l)(1).

Mark Ferroni,
Deputy Associate Administrator for Planning and Environment.

[FR Doc. 2023-12065 Filed 6-5-23; 8:45 am]

BILLING CODE 4910-57-P